Title 3—

The President

Memorandum of February 8, 2024

Delegation of Authority Under Section 1(j)(4) of the State Department Basic Authorities Act of 1956

Memorandum for the Secretary of State

By the authority vested in me as President by the Constitution and the laws of the United States of America, including section 301 of title 3, United States Code, I hereby delegate to the Secretary of State the functions and authority vested in the President by section 1(j)(4) of the State Department Basic Authorities Act of 1956 (22 U.S.C. 2651a(j)(4)) to submit to the Committee on Foreign Relations of the Senate and the Committee on Foreign Affairs of the House of Representatives the justification required in conjunction with the renewal of a temporary appointment pursuant to section 1(j)(3) of such Act (22 U.S.C. 2651a(j)(3)).

You are authorized and directed to publish this memorandum in the Federal Register.

THE WHITE HOUSE,

Washington, February 8, 2024

[FR Doc. 2024-04073

Filed 2-23-24; 11:15 am]

Billing code 4710-10-P